DEPARTMENT OF THE TREASURY

Fiscal Service

Financial Management Service; Proposed Collection of Information: Electronic Funds Transfer (EFT) Market Research Study

AGENCY: Financial Management Service, Fiscal Service, Treasury.

ACTION: Notice and request for comments.

SUMMARY: The Financial Management Service, as part of its continuing effort to reduce paperwork and respondent burden, invites the general public and other Federal agencies to take this opportunity to comment on a continuing information collection. By this notice, the Financial Management Service solicits comments concerning the “Electronic Funds Transfer (EFT) Market Research Study.”

DATES: Written comments should be received on or before November 16, 2009.

ADDRESSES: Direct all written comments to Financial Management Service, Records and Information Management Branch, Room 135, 3700 East-West Highway, Hyattsville, Maryland 20782.

FOR FURTHER INFORMATION CONTACT: Request for additional information should be directed to Edita Rickard, EFT Strategy Division, 401 14th Street, SW., Room 304C, Washington, DC 20227, 202-874-7165.

SUPPLEMENTARY INFORMATION: Pursuant to the Paperwork Reduction Act of 1995, (44 U.S.C. 3506(c)(2)(A)), the Financial Management Service solicits comments on the collection of information described below:

Title: Electronic Funds Transfer (EFT) Market Research Study.

OMB Number: 15 10-0074.

Form Number: None.

Abstract: Study of Federal benefit recipients to identify barriers to significant increases in use of EFT for benefit and vendor payments.

Current Action: Extension of currently approved collection.

Type of Review: Regular.

Affected Public: Individuals or households, Federal Government.

Estimated Number of Respondents: 19,500.

Estimated Time per Respondent: 3 hours 30 minutes.

Estimated Total Annual Burden Hours: 7,500.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up cost and cost of operation, maintenance and purchase of services to provide information.

Dated: September 10, 2009.
Rita Bratcher,
Assistant Commissioner and Chief Disbursing Officer, Payment Management.

[FR Doc. E9-22407 Filed 9-16-09; 8:45 am]

BILLING CODE 4810-35-M